DEPARTMENT OF AGRICULTURE

Animal and Plant Health Inspection Service

9 CFR Part 94

[Docket No. APHIS-2008-0032]

RIN 0579-AC80

Importation of Cooked Pork Skins

AGENCY: Animal and Plant Health Inspection Service, USDA.

ACTION: Final rule.

SUMMARY: We are amending the regulations to allow for the importation of cooked pork skins from regions affected with foot-and-mouth disease, swine vesicular disease, African swine fever, and classical swine fever under certain conditions. We are taking this action after preparing a risk assessment that concluded that the cooking methods examined are sufficient to inactivate the pathogens of concern. This action will relieve restrictions on the importation of cooked pork skins while continuing to protect against the introduction of those diseases of concern.

DATES: Effective Date: January 14, 2010.

FOR FURTHER INFORMATION CONTACT: Dr. Karen A. James-Preston, Director, Technical Trade Services-Products, National Center for Import and Export, VS, APHIS, 4700 River Road Unit 40, Riverdale, MD 20737-1231; (301) 734-8172.

SUPPLEMENTARY INFORMATION:

Background

The regulations in 9 CFR part 94 (referred to below as the regulations) prohibit or restrict the importation of certain animals and animal products into the United States to prevent the introduction of communicable diseases of livestock and poultry. The regulations in §§ 94.4, 94.8, 94.9, and 94.12, among others, contain requirements for the importation of cured or cooked meat and pork or pork products from regions where rinderpest, foot-and-mouth disease (FMD), African swine fever (ASF), classical swine fever (CSF), and swine vesicular disease (SVD) exist.

On July 2, 2008, we published a proposed rule¹ in the Federal Register (73 FR 37892-37896, Docket No. APHIS-2008-0032) in which we proposed to allow for the importation of cooked pork skins from regions affected with FMD, ASF, CSF, and SVD under certain conditions. Specifically, we proposed to amend the FMD-related provisions in § 94.4, the ASF-related provisions in § 94.8, the CSF-related provisions in § 94.9, and the SVD-related provisions in § 94.12 by adding a new paragraph to each section that authorizes the importation of pork skins if they have been cooked using one of the two cooking methods described in the proposed rule.

¹ To view the proposed rule and the comments we received, go to (http://www.regulations.gov/fdmspublic/component/main?main=DocketDetail&d=APHIS-2008-0032).

We solicited comments on the proposed rule for 60 days ending September 2, 2008. We received six comments by that date, from State agriculture departments, a pork industry association, and a snack food manufacturer. The commenters raised several issues related to the proposed rule. These issues are discussed below.

All the commenters expressed concern that importing cooked pork skins into the United States would increase the risk of introducing swine diseases into the United States. Some commenters expressed concern that disease could be introduced through contaminated packaging as well as through the product itself.

As we explained in the proposed rule, cooked pork skins imported into the United States must meet the other requirements of our regulations as well as the provisions of the Federal Meat Inspection Act and the regulations in 9 CFR part 327. These safeguards include requirements for pork and pork products from regions where ASF exists to be packed in clean new packaging that is clearly distinguishable from packaging used for pork or pork products not eligible for export to the United States. These safeguards have been effective in preventing the introduction of swine diseases into the United States.

One commenter stated that the cooking processes do not alter protein functionality in pork skins. The commenter expressed concern that pork skin pellets could be rehydrated to their original consistency and could therefore present a risk of spreading disease.

As we explained in the proposed rule, cooked pork skins would be fully cooked by one of two cooking processes, both of which exceed the heat inactivation requirements for the pathogens of concern. In addition, the low levels of water activity in the pellets would make it unlikely that the pathogens would survive, since viruses prefer moist conditions. Rehydrating the pellets would not reactivate the pathogens.

One commenter stated that when pork skins are cooked in accordance with the proposed processes, there would be a temperature discrepancy between the temperature of the oven or cooking oil and internal temperature of the product. The commenter was concerned that, without proper validation, the internal temperature of the product would not be held high enough for long enough to inactivate viruses.

The product in this case consists of small pieces of skin which are typically 1 to 6 centimeters in width and half a centimeter thick. Given both the size of the pieces of skin and the length of the prescribed cooking times, we are confident that the interior temperature of the product will reach a temperature that will be near that of the oven or cooking oil and that will be sufficient to inactivate all the pathogens of concern.

One commenter stated that the Animal and Plant Health Inspection Service (APHIS) underestimated the likelihood of the imported pork skins being fed to swine. The commenter stated that in pork rind frying operations, spent or uncooked pellets would be sent to rendering facilities that would then sell their products to swine feedlots. The commenter stated that because the import request was for cooked product that would need further processing, not for fried product, this represented a risk of spreading disease to domestic swine.

APHIS notes that both cooking processes include cooking in oil, or deep frying, at temperatures which exceed the inactivation requirements for the pathogens of concern. Furthermore, while we acknowledge that commercial operations may send waste pellets to rendering facilities, we also note that any waste pellets used as feed would be regulated under 9 CFR part 166, which includes requirements that any garbage intended for use as swine feed must be treated to kill disease organisms. We are making no changes to the rule in response to this comment.

One commenter stated that the process for approving facilities required only one-time inspection and was inadequate to assure that a facility met the requirements in the regulations.

We disagree. In addition to APHIS inspection and approval of facilities, the Food Safety and Inspection Service (FSIS), U.S. Department of Agriculture, also conducts periodic inspections and audits of overseas facilities. We are confident that these reviews will be effective in ensuring that foreign processing facilities meet the requirements of the regulations.

Several commenters asked for an explanation of how we would know if the requirements set forth in the regulations have been met. One commenter specifically asked how quality control at foreign plants would be documented.

Cooked pork skins to be imported into the United States would have to be produced at a facility that meets both APHIS and FSIS requirements, and would have to be accompanied by both the foreign meat inspection certificate required by 9 CFR part 327 and certificates issued by the national government of the region of origin that state that the cooked pork skins meet the requirements of our regulations. Products that do not meet these requirements are not allowed entry into the United States. These procedures are the same as those currently required for other meat and meat products imported into the United States and have been effective in preventing the introduction of foreign animal diseases.

One commenter asked if there was a need for sampling of products and packaging at the port of entry.

Such sampling will not be necessary. To be allowed entry into the United States, pork skins must be fully cooked according to one of the two cooking processes described in the proposed rule. Sampling cooked products would not provide any additional protection for U.S. animal health because the cooking processes will inactivate the pathogens of concern.

Two commenters raised the issue that States are held to a higher standard of meat inspection than exporting countries.

We are not making any changes in response to these comments, as the issue is outside APHIS’ statutory authority.

Therefore, for the reasons given in the proposed rule and in this document, we are adopting the proposed rule as a final rule, without change.

Executive Order 12866 and Regulatory Flexibility Act

This final rule has been reviewed under Executive Order 12866. The rule has been determined to be not significant for the purposes of Executive Order 12866 and, therefore, has not been reviewed by the Office of Management and Budget.

We are amending the regulations to allow for the importation of cooked pork skins from regions affected with FMD, SVD, ASF, and CSF under certain conditions. We are taking this action after preparing a risk assessment that concluded that the cooking methods examined are sufficient to inactivate the pathogens of concern. This action will relieve restrictions on the importation of cooked pork skins while continuing to protect against the introduction of those diseases of concern. In accordance with the Regulatory Flexibility Act, we have analyzed the potential economic effects of this action on small entities.

Pork rinds are a snack food that is made from deep-fried pork rind pellets (cooked pig skins). The size of the pork rind snack manufacturing industry is considered to be relatively small. Available Economic Census data do not provide specific information on the pork rind snack industry. The Census categorizes the pork rind industry with certain other snack foods (excluding potato chips, corn chips, and related products) under “other snack food manufacturing,” and the product classification code is 3119197.² As table 1 shows, the industry is comprised of a relatively small number of establishments. On average, these establishments employ fewer than 100 employees and therefore most, if not all, of the establishments can be considered to be small entities.³

² The products included within this code are other chips, sticks, hard pretzels, bacon rinds, popcorn (except candied), etc., excluding crackers, soft pretzels, and nuts.

³ The U.S. Small Business Administration (SBA) defines establishments engaged in other snack food manufacturing (North American Industry Classification System code 311919) as small if their employees number no more than 500.

Table 1.-Snack food manufacturing, excluding potato chips, corn chips, and related products, 2002
Number of establishments | Number of employees | Payroll ($ million) | Total cost of materials ($ million) | Total value of shipments ($ million)
47 | 4,284 | $131 | $365 | $959
Source: 2002 Economic Census (http://www.census.gov/prod/ec02/ec0231i311919.pdf).

Although no clear-cut method exists to disaggregate the pork rind snack manufacturers from the other snack manufacturers in the Census data, we can use available sales information for pork rind snack food to approximate the size of this segment of the industry. Currently two trade associations keep track of pork rind snack sales: The Snack Food Association of Alexandria, VA, reported sales of $562 million (-21.6 percent)⁴ and Information Resources, Inc., of Chicago, IL, reported sales of $98 million (-16.8 percent).⁵

⁴ Sales in 2005, which includes all distribution channels. Percentage shows the change from previous year.

⁵ Total supermarket, drug store, and mass merchandising sales for the 52 weeks ending May 21, 2006, excluding Wal-Mart. Percentage shows the change from previous year.

Comparing these trade association data to the $959 million shipment value reported in the Census data for “other snack food manufacturing,” sales by the pork rind snack manufacturers may represent as much as one-half of sales for this product category. In terms of the sales trend, it is notable that both trade associations reported about 20 percent declines in sales from the previous year. The slowdown in sales may at least partially reflect a shift in consumers’ orientation away from the high-protein/low-carbohydrate diet that seems to have peaked in 2004.

Pork Rind Pellet Manufacturers

Pork rind pellets are made from cooked pork skins and are the main material used in making pork rind snacks. The number and size of the pork rind pellet manufacturers (including manufacturers of pork cracklings⁶) are relatively small. Only 17 establishments compose this industry, and they had a total shipment value in 2002 of $196 million, as shown in table 2.

⁶ Cracklings are produced from pellets — cooked pork skins — that are thicker and meatier than rinds.

Table 2.-Pork rind pellet manufacturers, 2002
Product code | Product description | Number of companies with shipments of $100,000 or more | Shipment value ($ million) | Estimated shipment volume¹
311611R121 | Pork rind pellets, including pork cracklings, made in slaughtering plants | 5 | $45 | 155.9 million pounds (70,715 metric tons)
311612A441 | Pork rind pellets, including pork cracklings, made from purchased carcasses | 12 | 151 | 56 million pounds (91,580 metric tons)
¹ Although shipment volumes for pork rind pellets are not available in the 2002 Census data, the 1997 Census data indicate that 123.7 million pounds were shipped for product code 311612A441, with a total shipment value of $130 million. The 2002 figures are calculated based on this information.
Source: 2002 Economic Census.

U.S. Imports and Exports of Pork Rind Products

Trade data⁷ specific to pork rinds are not available; instead, three harmonized tariff schedule (HTS) data for the edible offal of swine are examined and summarized.⁸, ⁹ Tables 3 and 4 summarize the import and export trends for these three HTS codes.¹⁰

⁷ Source: U.S. International Trade Commission Interactive Tariff and Trade Dataweb.

⁸ HTS 020649 - Edible offal of swine, frozen: Other; HTS 0206490050 - Edible offal of swine, frozen, pork rind (Note: This classification is no longer available in the 2007 HTS); HTS 1602494000 - Other prepared or preserved meat, meat offal, or blood of swine: Other, not containing cereals or vegetables, other.

⁹ Of those, only one HTS is specifically for pork rind (frozen). The other two include other edible offal of frozen, prepared, or preserved swine.

¹⁰ “Landed Duty-Paid Value,” which is the sum of the cost, insurance, and freight (CIF) value plus calculated duties, is used for the trade data.

The United States has imported a relatively small volume of edible offal of swine, including pork rinds, at an average of 7,000 metric tons annually with a value of $12 million over the past 5 years. Although the import of swine offal peaked in 2005 and has declined since, U.S. exports are relatively stable. The United States exported, on an average, about 24,000 metric tons with an average value of $24 million, and the United States has been a consistent net exporter of the edible offal of swine over the past 5 years.

Table 3.-U.S. imports of edible offal of swine, frozen, prepared, or preserved
Country | 2002: Million dollars | 2002: Metric ton | 2003: Million dollars | 2003: Metric ton | 2004: Million dollars | 2004: Metric ton | 2005: Million dollars | 2005: Metric ton | 2006: Million dollars | 2006: Metric ton
Canada | 2.9 | 2,901 | 4.3 | 3,553 | 10.5 | 4,481 | 7.0 | 6,635 | 5.7 | 6,274
Denmark | 8.1 | 2,183 | 6.8 | 2,281 | 7.5 | 1,893 | 2.1 | 2,247 | 2.1 | 1,127
Mexico | 0.0 | 0 | 1.1 | 0 | 0.6 | 108 | 0.0 | 79 | 0.0 | 0
Others | 0.0 | 177 | 0.0 | 144 | 0.1 | 102 | 0.1 | 174 | 0.0 | 27
Total | 11.3 | 5,261 | 12.8 | 5,978 | 19.2 | 6,584 | 9.5 | 9,135 | 7.8 | 7,428
Source: U.S. International Trade Commission, HTS 0206490000, 0206490050, 1602494000

Table 4.-U.S. exports of edible offal of swine, frozen, prepared, or preserved
Country | 2002: Million dollars | 2002: Metric tons | 2003: Million dollars | 2003: Metric tons | 2004: Million dollars | 2004: Metric tons | 2005: Million dollars | 2005: Metric tons | 2006: Million dollars | 2006: Metric tons
Mexico | 10.1 | 15,405 | 11.0 | 16,747 | 19.4 | 24,325 | 18.3 | 21,235 | 16.5 | 22,078
Japan | 9.4 | 3,102 | 3.3 | 1,410 | 0.9 | 272 | 1.4 | 435 | 4.4 | 1,494
Korea | 0.5 | 358 | 1.6 | 776 | 1.8 | 848 | 2.2 | 1,029 | 3.0 | 1,330
Hong Kong | 2.3 | 1,097 | 1.4 | 679 | 1.2 | 353 | 1.1 | 261 | 1.5 | 330
Others | 3.8 | 2,518 | 2.3 | 2,720 | 1.1 | 1,584 | 1.1 | 853 | 0.8 | 695
Total | 26.1 | 22,120 | 19.6 | 22,332 | 24.4 | 27,382 | 24.1 | 23,813 | 26.2 | 25,927
Source: U.S. International Trade Commission.

Exports of Pork Rind Products from Brazil

Two HTS categories that include pork skins are used to examine the status of Brazilian exports of pork rinds: 160249 (Meat, Meat Offal or Mixtures of Swine, Prepared or Preserved, NESOI¹¹) and 020649 (Offal of Swine Except Livers, Edible, Frozen).

Table 5.-Exports of swine offal from Brazil
Country | 2003: Million dollars | 2003: Metric tons | 2003: Per metric ton | 2004: Million dollars | 2004: Metric tons | 2004: Per metric ton | 2005: Million dollars | 2005: Metric tons | 2005: Per metric ton | 2005: % share of volume
Hong Kong | $7.2 | 9.199 | 781.9 | $9.5 | 10.347 | 916.9 | $15.2 | 14,537 | 1,046.9 | 65.2%
Russia | 3.4 | 4,621 | 725.3 | 2.2 | 2,897 | 750.1 | 4.1 | 4,689 | 876.8 | 21.0%
Others | 2.3 | 3,882 | 602.7 | 3.3 | 3,493 | 942.7 | 3.0 | 3,064 | 960.1 | 13.7%
World Total | 12.9 | 17,702 | 727.8 | 15.0 | 16,737 | 893.4 | 22.3 | 22,290 | 999.2 | 100%
Source: U.S. Census Bureau, as reported by Global Trade Information Services, Inc.

Brazil exports a relatively small amount of swine offal products. On an average, it exports about 19,000 metric tons annually with a total value of $17 million. Hong Kong is by far the largest buyer of Brazilian swine offal, accounting for almost two-thirds of total exports. Russia is the second largest buyer; however, its imports are limited to frozen swine offal (HTS 0206491).

¹¹ Not Elsewhere Specified Or Indicated.

In terms of the aggregate world export of swine offal products, Brazil is ranked around tenth in both HTS categories with its share accounting for about 1 percent of world trade.¹²

¹² Top exporters of HTS 020649 in 2005 were the United States (18 percent share), Germany (16 percent), Canada (13 percent), and Denmark (11 percent). For HTS 160249, top exporters were China (25 percent), Denmark (14 percent), Germany (12 percent), and the United States (8 percent).

Expected Economic Impact

The expected impact of the final rule on the U.S. economy is illustrated under two scenarios: 3 million pounds (1,361 metric tons) and 4 million pounds (1,814 metric tons) of pork rind pellets imported from Brazil.¹³ These scenarios reflect the initial plan of the U.S. importer who requested the rule.

¹³ We used a nonspatial, partial equilibrium welfare model to quantify the economic effects of this rule. In addition to the importer’s plan to import 3 to 4 million pounds, the price and quantity data explained in previous sections are used as inputs.

Table 6 summarizes the estimated price effects and impacts for U.S. producers and consumers under these two scenarios, using a nonspatial, partial equilibrium welfare model. The changes are minor; the model estimates that the net welfare benefit would be about $19,000 under the first scenario (3 million pounds imported) and $30,000 under the second scenario (4 million pounds imported). These welfare measures reflect a reduction in domestic production that would be more than offset by an increase in consumption. The changes in domestic production and consumption would be less than 1 percent. It is, therefore, safely assumed that the final rule will not have a significant economic impact on small entities in the pork rind industry.

Table 6.-Estimated impact on the U.S. economy of pork offal imports from Brazil
| Pork rind pellets imported from Brazil: 1,361 metric tons (3 million pounds) | Pork rind pellets imported from Brazil: 1,814 metric tons (4 million pounds)
Change in U.S. consumption, metric ton | 680.8 | 840.8
Change in U.S. production, metric ton | -730.2 | -973.2
Change in price of pork rind pellets, dollars per metric ton | -$17.08 | -$22.76
Change in consumer welfare, thousand dollars | $1,577 | $2,104
Change in annual net welfare, thousand dollars | $19 | $30

Under these circumstances, the Administrator of the Animal and Plant Health Inspection Service has determined that this action will not have a significant economic impact on a substantial number of small entities.

Executive Order 12988

This final rule has been reviewed under Executive Order 12988, Civil Justice Reform. This rule: (1) Has no retroactive effect; and (2) does not require administrative proceedings before parties may file suit in court challenging this rule.

Paperwork Reduction Act

This final rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, EXOTIC NEWCASTLE DISEASE, AFRICAN SWINE FEVER, CLASSICAL SWINE FEVER, SWINE VESICULAR DISEASE, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

2. Section 94.4 is amended as follows:

a. In paragraph (b)(7), by removing the citation “§ 94.4(b)(4) or (b)(5)” and adding the words “paragraph (b)(4) or (b)(5) of this section” in its place.

b. By redesignating paragraphs (b)(8) and (b)(9) as paragraphs (b)(9) and (b)(10), respectively, and adding a new paragraph (b)(8) to read as set forth below.

c. In newly redesignated paragraph (b)(9)(ii), by removing the citation “(b)(8)(i)” and adding the citation “(b)(9)(i)” in its place.

§ 94.4 Cured or cooked meat from regions where rinderpest or foot-and-mouth disease exists.

(b) * * *

(8) Pork rind pellets (pork skins). Pork rind pellets (pork skins) must be cooked in one of the following ways:

(i) One-step process. The pork skins must be cooked in oil for at least 80 minutes when oil temperature is consistently maintained at a minimum of 114 °C.

(ii) Two-step process. The pork skins must be dry-cooked at 260 °C for approximately 210 minutes after which they must be cooked in hot oil (deep-fried) at 104 °C for an additional 150 minutes.

3. Section 94.8 is amended as follows:

a. In paragraph (a)(3)(i), by removing the citation “(a)(4)” and adding the words “(a)(5) of this section” in its place.

b. By redesignating paragraph (a)(4) as paragraph (a)(5), and by adding a new paragraph (a)(4) to read as set forth below.

§ 94.8 Pork and pork products from regions where African swine fever exists or is reasonably believed to exist.

(a) * * *

(4) The pork product is pork rind pellets (pork skins) that were cooked in one of the following ways in an establishment that meets the requirements in paragraph (a)(5) of this section:

(i) One-step process. The pork skins must be cooked in oil for at least 80 minutes when oil temperature is consistently maintained at a minimum of 114 °C.

(ii) Two-step process. The pork skins must be dry-cooked at a minimum of 260 °C for approximately 210 minutes after which they must be cooked in hot oil (deep-fried) at a minimum of 104 °C for an additional 150 minutes.

4. Section 94.9 is amended as follows:

a. In paragraph (c)(1)(ii)(B), by removing the word “or” the second time it appears.

b. In paragraph (c)(1)(iii)(C)(2), by removing the period at the end of the paragraph and adding “; or” in its place.

c. By adding a new paragraph (c)(1)(iv) to read as set forth below.

d. In paragraph (c)(2), by removing the citation “(c)(1)(ii) or (iii)” and adding the citation “(c)(1)(ii), (iii), or (iv)” in its place.

e. In paragraph (c)(3), by removing the citation “(c)(1)(ii) or (iii)” both places it occurs and adding the citation “(c)(1)(ii), (iii), or (iv)” in its place.

§ 94.9 Pork and pork products from regions where classical swine fever exists.

(c) * * *

(1) * * *

(iv) Pork rind pellets (pork skins) originating in regions where classical swine fever is known to exist may be imported into the United States provided they have been cooked in one of the following ways:

(A) One-step process. The pork skins must be cooked in oil for at least 80 minutes when oil temperature is consistently maintained at a minimum of 114 °C.

(B) Two-step process. The pork skins must be dry-cooked at a minimum of 260 °C for approximately 210 minutes after which they must be cooked in hot oil (deep-fried) at a minimum of 104 °C for an additional 150 minutes.

5. In § 94.12, a new paragraph (b)(1)(vi) is added to read as follows:

§ 94.12 Pork and pork products from regions where swine vesicular disease exists.

(b) * * *

(1) * * *

(vi) Pork rind pellets (pork skins) must be cooked in one of the following ways:

(A) One-step process. The pork skins must be cooked in oil for at least 80 minutes when oil temperature is consistently maintained at a minimum of 114 °C.

(B) Two-step process. The pork skins must be dry-cooked at a minimum of 260 °C for approximately 210 minutes after which they must be cooked in hot oil (deep-fried) at a minimum of 104 °C for an additional 150 minutes.

Done in Washington, DC, this 9th day of December 2009.

Kevin Shea,
Acting Administrator, Animal and Plant Health Inspection Service.

[FR Doc. E9-29797 Filed 12-14-09; 8:33 am]

BILLING CODE 3410-34-S